DEPARTMENT OF COMMERCE

Foreign-Trade Zones Board

(Docket T-3-2006)

Foreign-Trade Zone 86 - Tacoma, Washington, Application for Temporary/Interim Manufacturing Authority, Norvanco International Inc./Panasonic Consumer Electronics Co., (Kitting of Home Theater Systems), Sumner, Washington

An application has been submitted to the Acting Executive Secretary of the Foreign-Trade Zones Board (the Board) by the Port of Tacoma (Washington), grantee of Foreign-Trade Zone (FTZ) 86, requesting temporary/interim manufacturing (T/IM) authority within FTZ 86, at the facility of Norvanco International Inc. (Norvanco) located in Sumner, Washington. The application was filed on September 26, 2006.

The Norvanco facility (100 employees) is located within Site 8 of FTZ 86 at 1800 140th Avenue East in Sumner, Washington. Under T/IM procedures, the company has requested authority to process (kit) certain imported components into home theater systems (HTS 8527.31; these systems enter the United States duty free) on behalf of the company's client, Panasonic Consumer Electronics Co. Norvanco may source the following potentially dutiable components/inputs from abroad for processing under T/IM authority, as delineated in the company's application: speaker boxes (HTS 8518.22); subwoofers (8518.21); and packing materials (3923.90). Duty rates on these inputs range from 3.0%% to 4.9%%, ad valorem. T/IM authority could be granted for a period of up to two years. Norvanco has also submitted a request for permanent FTZ manufacturing authority (for which Board filing is pending) for the activity described above.

FTZ procedures would allow Norvanco to elect the finished-product duty rate for the imported components/inputs listed above. The application states that the company would also realize logistical/paperwork savings under FTZ procedures. The applicant indicates that the proposed activity is currently conducted abroad and that T/IM FTZ authority could lead to increased U.S. activity and employment.

Public comment is invited from interested parties. Submissions shall be addressed to the Board's Acting Executive Secretary at: Office of the Executive Secretary, Foreign-Trade Zones Board, U.S. Department of Commerce, Room 1115, 1401 Constitution Ave. NW., Washington, DC 20230.

The closing period for their receipt is November 2, 2006.

A copy of the application will be available for public inspection at the Office of the Foreign-Trade Zones Board's Executive Secretary at the address listed above.

Dated: September 27, 2006.
Pierre V. Duy,
Acting Executive Secretary.

[FR Doc. E6-16324 Filed 10-2-06; 8:45 am]

BILLING CODE 3510-DS-S